DEPARTMENT OF COMMERCE

National Telecommunications and Information Administration

Docket Number: 080717848-8849-01

Instructions to Assist Manufacturers Submitting Notices of Intent (NOI) for Digital-to-Analog Converter Boxes

AGENCY: National Telecommunications and Information Administration

ACTION: Notice

SUMMARY: This notice announces that manufacturers that intend to submit, for the first time, digital-to-analog converter boxes to the National Telecommunications and Information Administration (NTIA) for certification as part of the TV Converter Box Coupon Program (Coupon Program) must submit their Notice of Intent (NOI) before September 1, 2008. Manufacturers who have to date received a certification notice for one or more converters (repeat manufacturers) have until September 30, 2008 to submit their NOI for any additional digital-to-analog converter boxes for certification under the Coupon Program. The intent of this notice is to allow NTIA to better plan and anticipate resource needs to process a finite group of converters.

FOR FURTHER INFORMATION CONTACT: Maureen Lewis, Technical Quality Liaison, TV Converter Box Coupon Program, mlewis@ntia.doc.gov, (202) 482-1892.

SUPPLEMENTARY INFORMATION: On March 15, 2007 NTIA published regulations to implement and administer a coupon program for digital-to-analog converter boxes.¹ Among other things, the Final Rule specifies that manufacturers interested in participating in the coupon program must submit a Notice of Intent (NOI) to NTIA. The regulations provide the necessary information to include in the NOI and also provide technical specifications and features required for a converter box to qualify for the coupon program.

¹ See Rules to Implement and Administer a Coupon Program for Digital-to-Analog Converter Boxes (final Rule), 72 FR 12097 (March 15, 2007).

Manufacturers' strong interest in the TV Converter Box Coupon Program has resulted in the certification of more than 125 coupon eligible converter boxes (CECBs), a third of which include the analog pass-through feature. NTIA appreciates manufacturers' efforts to offer consumers a range of product choices that will enable them to experience the benefits of the digital transition. The rapid approach of the analog shut-down, however, necessitates that NTIA redeploy some of its limited resources to other important aspects of Program administration such as resolving consumer concerns and mitigating waste, fraud, and abuse. Therefore, this Notice provides manufacturers information to facilitate their planning for further program participation.

NTIA informs manufacturers that first time manufacturers have until September 1, 2008 to submit a Notice of Intent for their digital-to-analog converter boxes to ensure processing and certification in time to participate in the Coupon Program. Pursuant to NTIA's regulations, NOIs shall be submitted to NTIA at least three months prior to submission of the manufacturer's test report and samples.² This time is needed to complete the lengthy process to test and validate each converter box. NTIA is establishing a cutoff date for NOIs to ensure that there is enough time to complete the certification process for converter boxes before the expiration of the Coupon Program. NTIA has found that the time and resources needed to review and complete the certification process with first-time manufacturers is often much greater than that needed to complete a technical review from a manufacturer that has successfully completed the process. By establishing September 1, 2008 as the last date for first-time manufacturers to submit NOIs, NTIA will be able to plan and anticipate resource needs to process a finite group of converters. NTIA reminds manufacturers the regulations also require that NOIs must include a brief description of the converter box, including permitted as well as required features.

² 47 C.F.R.§ 301.5(a).

Therefore, after September 1, 2008, NTIA will only accept NOIs from repeat manufacturers, i.e., manufacturers that have, by that date, received a certification notice for one or more converters. These repeat manufacturers will have until September 30, 2008 to submit NOIs for any additional digital-to-analog converter boxes to NTIA for certification as part of the Coupon Program.

Manufacturers who have submitted NOIs that are pending with NTIA as of the date of this Notice, are requested to submit complete test results associated with each pending NOI no later than September 30, 2008. There are currently pending with NTIA many NOIs that indicate the manufacturer's intention to submit test results some months ago. In order to prompt manufacturers to complete and submit test results, NTIA establishes this end date. NTIA will close the file associated with any NOI which has not been followed by submission of completed test results by September 30, 2008.

Additional guidance on testing or submission procedures may be provided on NTIA's web page under Manufacturers' Frequently Asked Questions, pursuant to Section 301.5(e), www.ntia.doc.gov.

Questions about the procedure for submitting NOIs or other aspects of NTIA's technical certification process may be submitted to:

Art Wall, Technical Advisor

TV Converter Box Coupon Program

US Department of Commerce

Washington, DC 20230

awall@atlanticbb.net

Dated: July 18, 2008.
Meredith Atwell Baker,
Acting Assistant Secretary for Communications and Information

[FR Doc. E8-16903 Filed 7-23-08; 8:45 am]

BILLING CODE 3510-60-S